DEPARTMENT OF TRANSPORTATION

Surface Transportation Board

[STB Finance Docket No. 34342]

Kansas City Southern—Control—The Kansas City Southern Railway Company, Gateway Eastern Railway Company, and The Texas Mexican Railway Company

AGENCY: Surface Transportation Board, DOT.

ACTION: Decision No. 3 in STB Finance Docket No. 34342; Notice of Public Hearing.

SUMMARY: The Surface Transportation Board (Board) will hold a public hearing in this case on Thursday, July 31, 2003, in Washington, DC. The hearing will provide a forum for interested persons to express their views on the matters at issue in this proceeding. Persons wishing to speak at the hearing should notify the Board in writing.

DATES: The public hearing will take place on Thursday, July 31, 2003. Persons wishing to speak at the hearing should file with the Board a written notice of intent to speak (and should indicate a requested time allotment) as soon as possible but no later than July 23, 2003. Written statements by persons speaking at the hearing may be submitted prior to the hearing but are not required. Persons wishing to submit written statements should do so by July 25, 2003.

ADDRESSES: An original and 10 copies of all notices of intent to speak and any written statements should refer to STB Finance Docket No. 34342 and should be sent to: Surface Transportation Board, 1925 K Street, NW, Washington, DC 20423-0001.

FOR FURTHER INFORMATION CONTACT: Julia M. Farr, (202) 565-1655. [Assistance for the hearing impaired is available through the Federal Information Relay Service (FIRS) at 1-800-877-8339.]

SUPPLEMENTARY INFORMATION: Kansas City Southern (KCS), which is a holding company and not a railroad, now controls two U.S. railroads: The Kansas City Southern Railway Company and Gateway Eastern Railway Company. By application filed with the Board on May 14, 2003, KCS seeks the approval of the Board to control a third U.S. railroad: The Texas Mexican Railway Company (Tex Mex or TM). In a decision (Decision No. 2) which was served on June 9, 2003, and which was published in the Federal Register on June 13, 2003 (at 68 FR 35474), the Board accepted the “KCS/TM” application and set a procedural schedule for the processing of that application. That schedule provides, among other things, that the Board's final decision on the KCS/TM application will be served on October 17, 2003 (if no environmental review is required and no oral argument is held).

The Board said in Decision No. 2 that a public hearing at which members of the public could voice their views regarding the KCS/TM application would be held in July 2003. The Board noted in Decision No. 2 that, whereas an oral argument is a formal affair at which lawyers representing parties are expected to express “legal” views regarding disputed matters, a public hearing is somewhat informal and the views expressed at a public hearing are not expected to be “legal” arguments. The Board is interested in hearing what members of the public have to say about any matter connected with the KCS/TM application.

Date/Time/Place of Hearing

The hearing will be held on Thursday, July 31, 2003, beginning at 10 a.m., in Room 760, the Board's hearing room, on the 7th Floor at the Board's headquarters in the Mercury Building, 1925 K Street, NW (on the northeast corner of the intersection of 20th St., NW, and K Street, NW), Washington, DC

Notice of Intent To Speak

Persons wishing to speak at the hearing should file with the Board a written notice of intent to speak, and should indicate a requested time allotment, as soon as possible but no later than July 23, 2003.

Written Statements

Persons wishing to submit written statements should do so by July 25, 2003.

Paper Copies

Persons intending to speak at the hearing and/or to submit written statements prior to the hearing should submit an original and 10 paper copies, respectively, of their notices and/or written statements.

Board Releases Available Via the Internet

Decisions and notices of the Board, including this notice, are available on the Board's Web site at“http://www.stb.dot.gov.”

This action will not significantly affect either the quality of the human environment or the conservation of energy resources.

Dated: July 9, 2003.
By the Board, Vernon A. Williams, Secretary.
Vernon A. Williams,
Secretary.

[FR Doc. 03-17839 Filed 7-14-03; 8:45 am]

BILLING CODE 4915-00-P